DEPARTMENT OF THE TREASURY

Internal Revenue Service

26 CFR Parts 1 and 602

[TD 9248]

RIN 1545-BC86

Residence Rules Involving U.S. Possessions; Correction

AGENCY: Internal Revenue Service (IRS), Treasury.

ACTION: Correction to final regulations.

SUMMARY: This document contains a correction to final regulations that were published in the Federal Register on Tuesday, January 31, 2006 (71 FR 4996) that provide rules for determining bona fide residency in the following U.S. possessions: American Samoa, Guam, the Northern Mariana Islands, Puerto Rico, and the United States Virgin Islands under sections 937(a) and 881(b) of the Internal Revenue Code (Code).

DATES: This correction is effective January 31, 2006.

FOR FURTHER INFORMATION CONTACT: J. David Varley, (202) 435-5262 (not a toll-free number).

SUPPLEMENTARY INFORMATION:

Background

The final regulations (TD 9248) that are the subject of this correction are under sections 937(a) and 881(b) of the Internal Revenue Code.

Need for Correction

As published, the final regulations (TD 9248) contains an error that may prove to be misleading and is in need of clarification.

Correction of Publication

Accordingly, the publication of the final regulations (TD 9248), which were the subject of FR Doc. 06-818, is corrected as follows:

1. On page 4997, column 2, in the preamble under the paragraph heading “Explanation of Provisions and Summary of Comments”, first paragraph, fourth line from the bottom, the language “tax and closer connection tests is the” is corrected to read “tax home and closer connection test is the”.

LaNita VanDyke,
Federal Register Liaison Officer, Legal Processing Division, Associate Chief Counsel, (Procedure and Administration).

[FR Doc. 06-2664 Filed 3-20-06; 8:45 am]

BILLING CODE 4830-01-P